DEPARTMENT OF COMMERCE

Foreign-Trade Zones Board

[B-24-2015]

Foreign-Trade Zone (FTZ) 7—Mayaguez, Puerto Rico; Authorization of Production Activity; Neolpharma, Inc.; Subzone 7O; (Pharmaceutical Products) Caguas, Puerto Rico

On April 20, 2015, the Puerto Rico Industrial Development Company, grantee of FTZ 7, submitted a notification of proposed production activity to the Foreign-Trade Zones (FTZ) Board on behalf of Neolpharma, Inc., located within Subzone 7O, in Caguas, Puerto Rico.

The notification was processed in accordance with the regulations of the FTZ Board (15 CFR part 400), including notice in the Federal Register inviting public comment (84 FR 24895-24896, 05-01-2015). The FTZ Board has determined that no further review of the activity is warranted at this time. The production activity described in the notification is authorized, subject to the FTZ Act and the Board's regulations, including Section 400.14.

Dated: August 18, 2015.
Andrew McGilvray,
Executive Secretary.

[FR Doc. 2015-21051 Filed 8-24-15; 8:45 am]

BILLING CODE 3510-DS-P